DEPARTMENT OF THE INTERIOR

Bureau of Land Management

[AK-933-1410-ET; F-07357]

Public Land Order No. 7541; Partial Revocation of Public Land Order No. 2550; Alaska

AGENCY: Bureau of Land Management, Interior.

ACTION: Public Land Order.

SUMMARY: This order revokes a public land order insofar as it affects 55.31 acres of public land withdrawn for airport purposes for the Federal Aviation Administration. The land is no longer needed for the purpose for which it was withdrawn. This action also allows the conveyance of the land to the State of Alaska, if such land is otherwise available. Any land described herein that is not conveyed to the State will be subject to Public Land Order No. 5180, as amended, and any other withdrawal or segregation of record.

EFFECTIVE DATE: October 8, 2002.

FOR FURTHER INFORMATION CONTACT: Robbie J. Havens, Bureau of Land Management, Alaska State Office, 222 W. 7th Avenue, No. 13, Anchorage, Alaska 99513-7599, 907-271-5477.

Order

By virtue of the authority vested in the Secretary of the Interior by Section 204 of the Federal Land Policy and Management Act of 1976, 43 U.S.C. 1714 (1994), and by Section 17(d)(1) of the Alaska Native Claims Settlement Act, 43 U.S.C. 1616(d)(1) (1994), it is ordered as follows:

1. Public Land Order No. 2550, which withdrew public lands for airport purposes, is hereby revoked insofar as it affects the following described land:

Fairbanks Meridian

T. 1 S., R. 2 W.,

Sec. 23, NE¼NE¼ excluding NE¼SE¼NE¼NE¼, E½E½NW¼SE¼NE¼NE¼, E½NE¼SW¼SE¼NE¼NE¼, and N½SE¼SE¼NE¼NE¼;

Sec. 24, W½NW¼NW¼.

The area described contains 55.31 acres.

2. The State of Alaska application for selection made under Section 6(b) of the Alaska Statehood Act of July 7, 1958, 48 U.S.C. note prec. 21 (1994), and under Section 906(e) of the Alaska National Interest Lands Conservation Act, 43 U.S.C. 1635(e)(1994), becomes effective without further action by the State upon publication of this public land order in the Federal Register, if such land is otherwise available. Lands selected by, but not conveyed to, the State will be subject to Public Land Order No. 5180, as amended and any other withdrawal or segregation of record.

Dated: September 13, 2002.
Rebecca W. Watson,
Assistant Secretary—Land and Minerals Management.

[FR Doc. 02-25577 Filed 10-7-02; 8:45 am]

BILLING CODE 4310-JA-P